DEPARTMENT OF COMMERCE

Bureau of Industry and Security

15 CFR Part 744

[Docket No. 230209-0041]

RIN 0694-AJ14

Additions to the Entity List

AGENCY: Bureau of Industry and Security, Department of Commerce.

ACTION: Final rule.

SUMMARY: In this rule, the Bureau of Industry and Security (BIS) amends the Export Administration Regulations (EAR) by adding six entities to the Entity List, under the destination of the People's Republic of China (China). These six entities have been determined by the U.S. Government to be acting contrary to the national security or foreign policy interests of the United States.

DATES: This rule is effective on February 10, 2023.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the EAR (15 CFR parts 730-774)) identifies entities for which there is reasonable cause to believe, based on specific and articulable facts, that the entities have been involved, are involved, or pose a significant risk of being or becoming involved in activities contrary to the national security or foreign policy interests of the United States, pursuant to § 744.11(b). The EAR impose additional license requirements on, and limit the availability of, most license exceptions for exports, reexports, and transfers (in-country) when a listed entity is a party to the transaction. The license review policy for each listed entity is identified in the “License Review Policy” column on the Entity List, and the impact on the availability of license exceptions is described in the relevant Federal Register document that added the entity to the Entity List. The Bureau of Industry and Security (BIS) places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Entity List Decisions

A. Additions to the Entity List

The ERC determined to add Beijing Nanjiang Aerospace Technology Co., Ltd.; China Electronics Technology Group Corporation 48th Research Institute; Dongguan Lingkong Remote Sensing Technology Co., Ltd.; Eagles Men Aviation Science and Technology Group Co., Ltd. (EMAST); Guangzhou Tian-Hai-Xiang Aviation Technology Co., Ltd.; and Shanxi Eagles Men Aviation Science and Technology Group Co., Ltd. all under the destination of China, to the Entity List. These entities are being added for their support to China's military modernization efforts, specifically the People's Liberation Army's (PLA) aerospace programs including airships and balloons and related materials and components. The PLA is utilizing High Altitude Balloons (HAB) for intelligence and reconnaissance activities. This activity is contrary to U.S. national security and foreign policy interests under § 744.11 of the EAR. For these six entities, BIS imposes a license requirement for all items subject to the EAR and will review license applications under a presumption of denial.

For the reasons described above, this final rule adds the following six entities to the Entity List and includes, where appropriate, aliases:

China

• Beijing Nanjiang Aerospace Technology Co., Ltd.;

• China Electronics Technology Group Corporation 48th Research Institute;

• Dongguan Lingkong Remote Sensing Technology Co., Ltd.;

• Eagles Men Aviation Science and Technology Group Co., Ltd. (EMAST);

• Guangzhou Tian-Hai-Xiang Aviation Technology Co., Ltd.; and

• Shanxi Eagles Men Aviation Science and Technology Group Co., Ltd.

Savings Clause

For the changes being made in this final rule, shipments of items removed from eligibility for a License Exception or export, reexport, or transfer (in-country) without a license (NLR) as a result of this regulatory action that were en route aboard a carrier to a port of export, reexport, or transfer (in-country), on February 10, 2023, pursuant to actual orders for export, reexport, or transfer (in-country) to or within a foreign destination, may proceed to that destination under the previous eligibility for a License Exception or export, reexport, or transfer (in-country) without a license (NLR) before March 13, 2023. Any such items not actually exported, reexported or transferred (in-country) before midnight, on March 13, 2023, require a license in accordance with this final rule.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves an information collection approved by OMB under control number 0694-0088, Simplified Network Application Processing System. BIS does not anticipate a change to the burden hours associated with this collection as a result of this rule. Information regarding the collection, including all supporting materials, can be accessed at https://www.reginfo.gov/public/do/PRAMain.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects in 15 CFR Part 744

Exports, Reporting and recordkeeping requirements, Terrorism.

Accordingly, part 744 of the Export Administration Regulations (15 CFR parts 730-774) is amended as follows:

PART 744—CONTROL POLICY: END-USER AND END-USE BASED

1. The authority citation for 15 CFR part 744 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 19, 2022, 87 FR 57569 (September 21, 2022); Notice of November 8, 2022, 87 FR 68015 (November 10, 2022).

2. Supplement no. 4 to part 744 is amended under CHINA, PEOPLE'S REPUBLIC OF by adding, in alphabetical order, entries for “Beijing Nanjiang Aerospace Technology Co., Ltd.”; “China Electronics Technology Group Corporation 48th Research Institute”; “Dongguan Lingkong Remote Sensing Technology Co., Ltd.”; “Eagles Men Aviation Science and Technology Group Co., Ltd.”; “Guangzhou Tian-Hai-Xiang Aviation Technology Co., Ltd.”; and “Shanxi Eagles Men Aviation Science and Technology Group Co., Ltd.” to read as follows:

Supplement No. 4 to Part 744—Entity List

* * * * *

Country | Entity | License requirement | License review policy | Federal Register citation
* * * * * * *
CHINA, PEOPLE'S REPUBLIC OF | * * * * * *
| Beijing Nanjiang Aerospace Technology Co., Ltd., Room 1104-2, Floor 11, Building 2, No. 19-1, Haidian Road, Haidian District, Beijing, China; and Room 813, Floor 8, Building 2, No. 19-1 Haidian Road, Haidian District, Beijing, China. | For all items subject to the EAR. (See § 744.11 of the EAR). | Presumption of denial | 88 FR [INSERT FR PAGE NUMBER AND 2/14/2023.
| * * * * * *
| China Electronics Technology Group Corporation 48th Research Institute, a.k.a., the following one alias: —CETC 48 Institute. No. 1025, Xinkaipu Road, Tianxin District, Changsha City, Hunan, China. | For all items subject to the EAR. (See § 744.11 of the EAR). | Presumption of denial | 88 FR [INSERT FR PAGE NUMBER AND 2/14/2023.
| * * * * * *
| Dongguan Lingkong Remote Sensing Technology Co., Ltd., a.k.a., the following one alias: —Dongguan Lingkong Yaogan Technology Co., Ltd. | For all items subject to the EAR. (See § 744.11 of the EAR). | Presumption of denial | 88 FR [INSERT FR PAGE NUMBER AND 2/14/2023.
| Building 6, Dongfeng Science and Technology Park, Songshan Lake, Dongguan City, Guangdong Province, China.
| * * * * * *
| Eagles Men Aviation Science and Technology Group Co., Ltd., a.k.a., the following two aliases: —Beijing Yige Siman Aviation Technology Group Co., Ltd.; and —EMAST. | For all items subject to the EAR. (See § 744.11 of the EAR). | Presumption of denial | 88 FR [INSERT FR PAGE NUMBER AND 2/14/2023.
| Room 1113, No. 1 Zhichun Road, Haidian District, Beijing, China; and Room 314, 3rd Floor, Block C, Zhizao Street, Zhongguancun, No. 45 Chengfu Road, Haidian District, Beijing, China; and Eagles Men Building, No. 7 Wande Zhihui Center, Changping District, Beijing, China.
| * * * * * *
| Guangzhou Tian-Hai-Xiang Aviation Technology Co., Ltd., a.k.a., the following two aliases: —Guangzhou Tianhaixiang Aviation Technology Co., Ltd.; and —THX Aviation. | For all items subject to the EAR. (See § 744.11 of the EAR). | Presumption of denial | 88 FR [INSERT FR PAGE NUMBER AND 2/14/2023.
| 1st Floor, Building 6, No. 4, Erheng Road, Second District, Jiangnan Industrial Zone, Nancun Town, Panyu District, Guangzhou, China.
| * * * * * *
| Shanxi Eagles Men Aviation Science and Technology Group Co., Ltd., a.k.a., the following two aliases: —Shanxi Yige Siman Aviation Technology Group Co., Ltd.; and —Shanxi EMAST. | For all items subject to the EAR. (See § 744.11 of the EAR). | Presumption of denial | 88 FR [INSERT FR PAGE NUMBER AND 2/14/2023.
| Zhaidian Industrial Park, Changzhi High-tech Zone, Shanxi Province, China.
| * * * * * *

* * * * *

Thea D. Rozman Kendler,
Assistant Secretary for Export Administration.

[FR Doc. 2023-03193 Filed 2-10-23; 4:15 pm]

BILLING CODE 3510-33-P